DEPARTMENT OF HEALTH AND HUMAN SERVICES

Centers for Medicare & Medicaid Services

Medicaid Program: Money Follows the Person Rebalancing Demonstration Program

AGENCY: Centers for Medicare & Medicaid Services (CMS), HHS.

ACTION: Notice.

SUMMARY: This notice creates an expansion to an existing award under the Money Follows the Person Demonstration grant. The program supports the movement of Medicaid beneficiaries with disabling and chronic conditions from institutions into the community. The award expands already funded tasks related to quality technical assistance provided to State grantees.

DATES: Effective Date: The program expansion is effective on the date of award (before September 30, 2011 through April 15, 2013).

FOR FURTHER INFORMATION CONTACT:

Anita Yuskauskas, (410) 786-0268.

Arun Natarajan, (410) 786-7455.

SUPPLEMENTARY INFORMATION:

I. Background

The need for additional funds is the result of an increase in the number of Money Follows the Person (MFP) State Grantees through the Patient Protection and Affordable Care Act (Affordable Care Act) (Pub. L. 111-148, enacted on March 23, 2010). Fifteen additional States received new MFP funds in January, 2011 under the Affordable Care Act. The increase in the number of States and programs resulting from the Affordable Care Act place more demand on the need for technical assistance to States developing and implementing quality improvement strategies, particularly given the complexity and vulnerability of the populations being served in MFP and the Congress' commitment to the Grant Program's success. The expansion was not calculated in the original National Quality Enterprise (NQE) budget because at the time of the original award, the Affordable Care Act money was not included in CMS' budget allocation.

The additional resources are necessary to assure the success of the individual placements, specifically, by facilitating sufficient quality mechanisms to address the unique needs of the populations with disabling and chronic conditions. These are the most vulnerable populations and a lack of quality and oversight mechanisms in place, may place individuals at risk.

II. Provisions of the Notice

We solicited a proposal from Thomson Reuters Healthcare to expand the National Home and Community-Based Services (HCBS) Quality Enterprise beyond the grant's present scope. The expansion was created by section 2403 of the Affordable Care Act, which amended section 6071 of the Deficit Reduction Act of 2005, the Money Follows the Person Rebalancing Demonstration. The provision expanded previous legislation to support State and CMS efforts to improve quality in a “rebalanced” long-term support system, and to demonstrate the ongoing benefits from and need for an effective HCBS QI Enterprise. The grant offered $1.2 million over 2 years through a program expansion supplement.

We requested that the Thomson Reuters Healthcare submit an abbreviated application addressing the expansion of the existing grant. The Grantee provided an updated quality technical assistance model and work plan focused on the following four major goals:

• Development of a process demonstrating consistency between the Grantee and CMS, and across all Grantee staff and subcontractors for providing technical assistance (Project Management, 1.1).

• The provision of technical assistance to states related to quality in home and community-based services programs (Technical Assistance, 2.1b).

• The provision of technical assistance to CMS staff related to the oversight of quality in HCBS programs (Technical Assistance, 2.1c).

• The ongoing development and maintenance of a national HCBS quality web-based technical assistance site and quality TA manuscripts (Technical Assistance, 2.1d and e).

As part of the application, based on the four major goals listed above, the Grantee submitted a 3 page project narrative describing the activities, and an accompanying budget revision, related to Grant #1LICMS030329/01, entitled “The National HCBS Quality Enterprise: Assisting States to Achieve Enhanced Quality in a Rebalanced Environment”.

The documents included the following:

• Cover Letter—The letter included the current project director's name and a brief summary of the proposed project, submitted and signed by the authorized representative for this grant.

• SF-424a (Budget Information—Non Construction Programs)—The applicant provided the total costs for the remainder of the project for $1.2 million, with a break out of those costs in Section B “Budget Categories” of the SF-424a form. The costs proposed were for the additional costs only (not the cumulative total costs of the entire grant).

• Detailed Budget Narrative—The applicant provided a detailed breakdown of the aggregate numbers for the budget recorded on the Standard Form 424a “Budget Information—Non Constructions Programs,” including allocations for each major set of activities or proposed tasks. The proposed budget justification clearly described each cost element in the related budget category.

• Project Narrative—The project narrative (approximately 3 pages in length) provided a concise and complete description of the proposed project. It contained the information necessary for CMS to fully understand the additional work of the project. It covered all aspects of the project requirements (see criteria for writing the project narrative—four major goals).

Authority: Section 6071 Deficit Reduction Act of 2005.

Dated: September 20, 2011.
Daniel F. Kane,
Chief Grants Management Officer, Office of Acquisition and Grants Management, Centers for Medicare & Medicaid Services.

[FR Doc. 2011-24986 Filed 9-27-11; 8:45 am]

BILLING CODE 4120-01-P